DEPARTMENT OF THE INTERIOR

U.S. Geological Survey

USGS-CCSP Committee for Synthesis and Assessment Product 3.4: Abrupt Climate Change

ACTION: Notice of meeting.

Summary: The USGS-CCSP Committee for Synthesis and Assessment Product 3.4: Abrupt Climate Change will meet at the Hyatt Regency hotel in Reston, Virginia on March 26-28, 2007.

Agenda: The goal of the workshop is to produce a detailed outline of topics for consideration in the Synthesis and Assessment Product and establish writing assignments. The agenda will focus on the state of the science regarding the topic of “abrupt climate change.” Discussion will include, but is not limited to, rapid hydrologic change; abrupt changes to meridional overturning circulation; rapid Arctic and Antarctic ice sheet mass balance; and rapid methane release from hydrates. The workshop is open to the public during the times listed below. Pre-registration is required to attend. Contact the Designated Federal Officer (DFO) at the address below by March 21, 2007 to pre-register and to receive a copy of the workshop agenda. Public involvement with the workshop is encouraged. Prepared statements may be presented orally to the Committee on Monday March 26, 2007 between 11 a.m. and 12 p.m. Public statements will be limited to 3 minutes per person. For scheduling reasons, intent to make a public statement must be established at the time of pre-registration. A written copy of the oral statement must be left with the Committee's DFO at the workshop as a matter of public record. Open discussions will accompany each formal session of the workshop. Short public comments/questions will be allowed if time permits. Seating will be available on a first come, first served basis. Please check the Synthesis and Assessment Product 3.4 Web page at CCSP (http://www.climatescience.gov/Library/sap/sap3-4/default.php) for any last minute changes to the workshop time, date, location or agenda.

Workshop Dates and Times

Monday March 26, 2007: 11 a.m.-12 p.m. (public comments); 1:15 p.m.-5 p.m.

Tuesday March 27, 2007: 8:30 a.m.-12:15 p.m.; 1:30 p.m.-5:15 p.m.

Wednesday March 28, 2007: 8:30 a.m.-12:15 p.m.; 3:30 p.m.-5 p.m.

Workshop Address

Hyatt Regency Reston, 1800 President Street, Reston, VA 20190.

FOR FURTHER INFORMATION AND TO PRE-REGISTER CONTACT: John McGeehin (DFO), U.S. Geological Survey, 12201 Sunrise Valley Drive, M.S. 926A, Reston, VA 20192, (703) 648-5349, mcgeehin@usgs.gov.

Rama Kotra,
Acting Associate Director for Geology, U.S. Geological Survey.

[FR Doc. 07-840 Filed 2-23-07; 8:45 am]

BILLING CODE 4311-AM-M